DEPARTMENT OF TRANSPORTATION

Federal Aviation Administration

14 CFR Part 71

[Docket No. FAA-2023-0328; Airspace Docket No. 22-ASO-37]

RIN 2120-AA66

Revocation, Amendment, and Establishment of Air Traffic Service (ATS) Routes Due to the Decommissioning of the Greene County, MS, VOR

AGENCY: Federal Aviation Administration (FAA), DOT.

ACTION: Final rule.

SUMMARY: This action removes Jet Route J-590, amends Very High Frequency (VHF) Omnidirectional Range (VOR) Federal airways V-11 and V-70, and establishes United States Area Navigation (RNAV) route T-365. The FAA is taking this action due to the planned decommissioning of the VOR portion of the Greene County, MS (GCV), VOR/Tactical Air Navigation (VORTAC) navigational aid (NAVAID). The Greene County VOR is being decommissioned in support of the FAA's VOR Minimum Operational Network (MON) program.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the ATS route structure as necessary to preserve the safe and efficient flow of air traffic within the National Airspace System.

History

The FAA published a notice of proposed rulemaking for Docket No. FAA-2023-0328 in the Federal Register (88 FR 13737; March 6, 2023), proposing to remove Jet Route J-590, amend VOR Federal airways V-11 and V-70, and establish RNAV route T-365 due to the planned decommissioning of the VOR portion of the Greene County, MS, VORTAC NAVAID. Interested parties were invited to participate in this rulemaking effort by submitting written comments on the proposal. No comments were received.

Incorporation by Reference

Jet Routes are published in paragraph 2004, VOR Federal airways are published in paragraph 6010(a), and United States Area Navigation Routes (T-routes) are published in paragraph 6011 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by removing Jet Route J-590, amending VOR Federal airways V-11 and V-70, and establishing RNAV route T-365 due to the planned decommissioning of the VOR portion of the Greene County, MS, VORTAC. The ATS route actions are described below.

J-590: J-590 is removed in its entirety.

V-11: V-11 extends between the Brookley, AL, VORTAC and the Magnolia, MS, VORTAC; and between the Cunningham, KY, VOR/Distance Measuring Equipment (VOR/DME) and the intersection of the Fort Wayne, IN, VORTAC 038° and Flag City, OH, VORTAC 308° radials (EDGEE fix). The airway segment overlying the Greene County VORTAC between the Brookley VORTAC and the Magnolia VORTAC is removed. As amended, the airway extends between the Cunningham VOR/DME and the intersection of the Fort Wayne VORTAC 038° and Flag City VORTAC 308° radials (EDGEE fix).

V-70: V-70 extends between the Monterrey, Mexico, VOR/DME and the Allendale, SC, VOR; and between the Grand Strand, SC, VORTAC and the Cofield, NC, VORTAC. The airspace within Mexico is excluded. The airway segment overlying the Greene County VORTAC between the Picayune, MS, VOR/DME and the Monroeville, AL, VORTAC is removed. As amended, the airway extends between the Monterrey, Mexico, VOR/DME and the Picayune VOR/DME, between the Monroeville VORTAC and the Allendale VOR, and between the Grand Strand VORTAC and the Cofield VORTAC.

T-365: T-365 is a new RNAV route that extends between the Brookley, AL, VORTAC and the Magnolia, MS, VORTAC. This T-route mitigates the loss of the V-11 airway segment removed and provides RNAV routing capability between the Mobile, AL, area northwestward to the Jackson, MS, area.

All NAVAID radials listed in the VOR Federal airway descriptions in the Amendment section below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of removing Jet Route J-590, amending VOR Federal airways V-11 and V-70, and establishing RNAV route T-365, due to the planned decommissioning of the VOR portion of the Greene County, MS, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); paragraph 5-6.5j, which categorically excludes from further environmental impact review implementation of procedures to respond to emergency air or ground safety needs, accidents, or natural events with no reasonably foreseeable long-term adverse impacts; and paragraph 5-6.5k, which categorically excludes from further environmental impact review publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11G, Airspace Designations and Reporting Points, dated August 19, 2022, and effective September 15, 2022, is amended as follows:

Paragraph 2004 Jet Routes.

* * * * *

J-590 [Removed]

* * * * *

Paragraph 6010(a) Domestic VOR Federal Airways.

* * * * *

V-11 [Amended]

From Cunningham, KY; Pocket City, IN; Brickyard, IN; Marion, IN; Fort Wayne, IN; to INT Fort Wayne 038° and Flag City, OH, 308° radials.

* * * * *

V-70 [Amended]

From Monterrey, Mexico; Brownsville, TX; INT Brownsville 338° and Corpus Christi, TX, 193° radials; 34 miles standard width, 37 miles 7 miles wide (4 miles E and 3 miles W of centerline), Corpus Christi; INT Corpus Christi 054° and Palacios, TX, 226° radials; Palacios; Scholes, TX; Sabine Pass, TX; Lake Charles, LA; Lafayette, LA; Fighting Tiger, LA; to Picayune, MS. From Monroeville, AL; INT Monroeville 073° and Eufaula, AL, 258° radials; Eufaula; Vienna, GA; to Allendale, SC. From Grand Strand, SC; Wilmington, NC; Kinston, NC; INT Kinston 050° and Cofield, NC, 186° radials; to Cofield. The airspace within Mexico is excluded.

* * * * *

Paragraph 6011 United States Area Navigation Routes.

* * * * *

T-365 Brookley, AL (BFM) to Magnolia, MS (MHZ) [New]
Brookley, AL (BFM) | VORTAC | (Lat. 30°36′45.80″ N, long. 088°03′19.78″ W)
GARTS, MS | WP | (Lat. 31°05′52.39″ N, long. 088°29′10.68″ W)
Magnolia, MS (MHZ) | VORTAC | (Lat. 32°26′02.65″ N, long. 090°05′59.18″ W)

* * * * *

Issued in Washington, DC, on July 13, 2023.
Karen L. Chiodini,
Acting Manager, Airspace Rules and Regulations.

[FR Doc. 2023-15312 Filed 7-19-23; 8:45 am]

BILLING CODE 4910-13-P